GENERAL SERVICES ADMINISTRATION

[OMB Control No. 3090-0248]

Submission for OMB Review and Extension, GSAR 516.506, Solicitation Provisions and Contract Clause, 552.216-72, Placement of Orders Clause and 552.216-73, Ordering Information Clause

AGENCY: General Services Administration (GSA).

ACTION: Notice of a request for review and extension of the collection (3090-0248).

SUMMARY: Under the provisions of the Paperwork Reduction Act of 1995 (44 U.S.C. Chapter 35), the General Services Administration's (GSA) will be submitting to the Office of Management and Budget (OMB) a request to review and approve an extension of a currently approved information collection that pertains to GSAR 516.506, Solicitation provisions and contract clauses and GSAR Placement of Orders Clause and Ordering Information clauses. The information collected is required by regulation. The information collected under this collection is collected through Electronic Data Interchange (EDI) in accordance with the Federal Government's mandate to increase electronic commerce. This notice indicates GSA's intent to request an extension by 3 years and to request public review and comment on the collection.

Public comments are particularly invited on: Whether the information collection required by GSAR 516. 506 and generated by the GSAR Clauses, 552.216-72, Placement of Orders and 552.216-73, Ordering Information, is necessary, to ensure FSS maximizes the use of computer-to-computer electronic data interchange (EDI) to place delivery orders; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comment Due Date: June 24, 2002.

ADDRESSES: Comments regarding this burden estimate or any other aspect of this collection of information, including suggestions for reducing this burden, should be submitted to: Stephanie Morris, General Services Administration, Acquisition Policy Division, 1800 F Street, NW, Room 4035, Washington, DC 20405 or fax to (202) 501-5067. Please cite OMB Control Number 3090-0248.

FOR FURTHER INFORMATION CONTACT: Julia Wise, Acquisition Policy Division, GSA (202) 208-1168.

SUPPLEMENTARY INFORMATION:

A. Purpose

The General Services Administration (GSA) has various mission responsibilities related to the acquisition and provision of Federal Supply Service's (FSS's) Stock, Special Order, and Schedules Programs. These mission responsibilities generate requirements that are realized through the solicitation and award of various types of FSS contracts. Individual solicitations and resulting contracts may impose unique information collection and reporting requirements on contractors, not required by regulation, but necessary to evaluate particular program accomplishments and measure success in meeting program objectives.

B. Annual Reporting Burden

Respondents: 5380.

Responses for Respondent: 1.

Total Responses: 5380.

Hours Per Response: .25.

Total Burden Hours. 1, 345.

Obtaining Copies of Proposals

Requester may obtain a copy of the proposal from the General Services Administration, Acquisition Policy (MVP), 1800 F Street, NW., Room 4035, Washington, DC 20405, telephone (202) 501-4744. Please cite OMB Control No. 3090-0248, Placement of Orders and Ordering Information, in all correspondence.

Dated: April 15, 2002.
Al Matera,
Director, Acquisition Policy Division.

[FR Doc. 02-9933 Filed 4-22-02; 8:45 am]

BILLING CODE 6820-34-M